DEPARTMENT OF THE INTERIOR

National Park Service

[2310-0067-422]

Ungulate Management Plan/Environmental Impact Statement, Great Sand Dunes National Park and Preserve, CO

AGENCY: National Park Service, Department of the Interior.

ACTION: Notice of Intent to prepare an Environmental Impact Statement for the Ungulate Management Plan, Great Sand Dunes National Park and Preserve.

SUMMARY: Pursuant to the National Environmental Policy Act of 1969, 42 U.S.C. 4332(2)(C), the National Park Service is preparing an Environmental Impact Statement (EIS) for the Ungulate Management Plan, Great Sand Dunes National Park and Preserve, Colorado. The purpose of this plan/EIS is to establish a framework for the management of elk, bison, and other ungulates that supports attainment of desired habitat conditions at Great Sand Dunes National Park and Preserve and is compatible with conditions and management activities across the broader eastern San Luis Valley landscape. This planning effort is needed to identify desired future habitat conditions on newly acquired park land and future land transfers, using the best available science to guide management decisions and responses to changing conditions. A scoping brochure has been prepared that details the issues identified to date and includes the purpose, need, and objectives of the EIS. Copies of that information may be obtained online at http://parkplanning.nps.gov/grsa-ungulates or Great Sand Dunes National Park, 11500 Highway 150, Mosca, CO 81146-9798, (719) 378-6300.

DATES: The National Park Service will accept comments from the public through January 6, 2012. The National Park Service intends to hold public scoping meetings in locations surrounding the park during the scoping period. Details regarding the exact times and locations of these meetings will be announced online at http://parkplanning.nps.gov/grsa-ungulates and through local media at least 15 days in advance of the meetings.

ADDRESSES: Information will be available for public review online at http://parkplanning.nps.gov/grsa-ungulates and in the office of the Superintendent, 11500 Highway 150, Mosca, CO 81146-9798, (719) 378-6300.

FOR FURTHER INFORMATION CONTACT: Karl Cordova, Acting Superintendent, 11500 Highway 150, Mosca, CO 81146-9798, (719) 378-6300.

SUPPLEMENTARY INFORMATION: If you wish to comment on the purpose, need, objectives, alternatives, or on any other issues associated with the plan, you may submit your comments by any one of several methods. You may mail comments to GRSA Ungulate Management Plan/EIS, NPS-EQD Academy Place, P.O. Box 25287, Denver, CO 80225. You may also comment via the Internet at http://parkplanning.nps.gov/grsa-ungulates. Finally, you may hand-deliver comments to the Superintendent, 11500 Highway 150, Mosca, CO 81146-9798. Before including your address, phone number, email address, or other personal identifying information in your comment, you should be aware that your entire comment—including your personal identifying information—may be made publicly available at any time. While you can ask us in your comment to withhold your personal identifying information from public review, we cannot guarantee that we will be able to do so.

Dated: October 13, 2011.
John Wessels,
Director, Intermountain Region, National Park Service.

[FR Doc. 2011-28579 Filed 11-3-11; 8:45 am]

BILLING CODE 4312-CL-P